DEPARTMENT OF COMMERCE

Foreign-Trade Zones Board

[B-28-2016]

Foreign-Trade Zone (FTZ) 26—Atlanta, Georgia; Notification of Proposed Production Activity; Eastman Kodak Company; Subzone 26N (Aluminum Printing Plates); Columbus, Georgia

Georgia Foreign Trade Zone, Inc., grantee of FTZ 26, submitted a notification of proposed production activity to the FTZ Board on behalf of Eastman Kodak Company (Eastman Kodak), located within Subzone 26N, in Columbus, Georgia. The notification conforming to the requirements of the regulations of the FTZ Board (15 CFR 400.22) was received on April 26, 2016.

The facility is used for the production of aluminum printing plates. Pursuant to 15 CFR 400.14(b), FTZ activity would be limited to the specific foreign-status materials and components and specific finished product described in the submitted notification (as described below) and subsequently authorized by the FTZ Board.

Production under FTZ procedures could exempt Eastman Kodak from customs duty payments on the foreign-status materials and components used in export production. On its domestic sales, Eastman Kodak would be able to choose the duty rate during customs entry procedures that applies to aluminum printing plates (duty rate 3.7%) for the foreign-status inputs noted below. Customs duties also could possibly be deferred or reduced on foreign-status production equipment.

The components and materials sourced from abroad include: ethanaminium; 3H-indolium; benzenediazonium; finished aluminum printing plates; acetic acid; polyvinylphosphonsaure; co polymer-methacrylic acid; propenoic acid; naphthalenesulfonic acid; urethane acrylate polymer; phenolic resin solution; and, aluminum and aluminum alloy coils (duty rates range from 3% to 6.5%).

Public comment is invited from interested parties. Submissions shall be addressed to the FTZ Board's Executive Secretary at the address below. The closing period for their receipt is June 20, 2016.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Diane Finver at Diane.Finver@trade.gov or (202) 482-1367.

Dated: May 3, 2016.
Andrew McGilvray,
Executive Secretary.

[FR Doc. 2016-10846 Filed 5-6-16; 8:45 am]

BILLING CODE 3510-DS-P